DEPARTMENT OF THE INTERIOR

Bureau of Reclamation

[RR03510000, XXXR0680A1, RX.20116000.0019400]

Notice of Intent To Prepare an Environmental Impact Statement/Environmental Impact Report for the Clean Water Factory Project, San Bernardino County, California

AGENCY: Bureau of Reclamation, Interior.

ACTION: Notice.

SUMMARY: The Bureau of Reclamation and the City of San Bernardino Municipal Water Department will prepare a joint Environmental Impact Statement/Environmental Impact Report (EIS/EIR) to evaluate the effects of the Clean Water Factory project. The proposed Clean Water Factory is a water reclamation project to treat and reuse municipal wastewater that is currently discharged to the Santa Ana River. The reclaimed water will be used for groundwater recharge and landscape irrigation. The purpose of the project is to reduce dependence on imported water and establish a reliable, sustainable source of clean water. The public and agencies are invited to comment on the scope of the EIS/EIR and the proposed alternatives.

DATES: Submit written comments on the scope of the EIS/EIR on or before March 9, 2015.

ADDRESSES: Please send written comments to Doug McPherson, Southern California Area Office, Bureau of Reclamation, 27708 Jefferson Avenue, Suite 202, Temecula, CA 92590; or email to dmcpherson@usbr.gov.

FOR FURTHER INFORMATION CONTACT: Doug McPherson, Southern California Area Office general telephone number 951-695-5310; or email dmcpherson@usbr.gov.

SUPPLEMENTARY INFORMATION: This notice is provided pursuant to the National Environmental Policy Act (NEPA) (42 U.S.C. 4332(2)(c)), and Department of the Interior regulations for implementation of NEPA (43 CFR part 46).

Background

The San Bernardino Municipal Water Department (SBMWD) is preparing a feasibility study report for approval under the Reclamation Wastewater and Groundwater Study and Facilities Act of 1992 (Title XVI of Pub. L. 102-575, as amended). If the Bureau of Reclamation determines that the feasibility study report meets the requirements defined at 43 U.S.C. 390h-2, and Congress amends Title XVI to specifically authorize Federal appropriations for the project, it will be eligible for construction funding under the Title XVI program.

The proposed project will install treatment improvements within the existing San Bernardino Water Reclamation Plant (SBWRP) to achieve product water quality approved for groundwater recharge by the California Department of Public Health and the Santa Ana Regional Water Quality Control Board. New pipelines will convey treated effluent to the existing Waterman Basins and East Twin Creek Spreading Grounds for recharge into the Bunker Hill Groundwater Basin. Recycled water will be delivered for non-potable irrigation uses along the pipeline alignment. The project may also include a pipeline to convey recycled water from the existing Rapid Infiltration and Extraction (RIX) facility to the Inland Empire Utilities Agency service area.

SBWRP effluent is currently discharged to the Santa Ana River through the RIX facility, under National Pollutant Discharge Elimination System permit no. CA8000304. The Santa Ana River is designated critical habitat for the Santa Ana sucker (Catostomus santaanae), a fish species listed as threatened under the Endangered Species Act. The existing RIX discharge contributes to dry season baseflows that support the Santa Ana sucker.

Pursuant to California Water Code section 1211, SBMWD filed Wastewater Change Petition WW0059 with the California State Water Resources Control Board to reduce recycled water discharge from the RIX facility to the Santa Ana River by up to 31,500 acre-feet per year. Reductions in RIX discharge will be phased over time through an Adaptive Management Plan to monitor and manage downstream flows, to comply with the requirements of the Endangered Species Act.

Scoping Process

SBMWD filed a Notice of Preparation (California State Clearinghouse no. 2014111012) on November 6, 2014, pursuant to the California Environmental Quality Act (CEQA) (P.R.C. section 21092, C.C.R. section 15082) and held two public scoping meetings on November 19, 2014. To avoid duplication with State and local procedures, we plan to use the scoping process initiated by SBMWD under CEQA. No additional public scoping meetings are planned at this time. The CEQA Notice of Preparation is available at http://www.usbr.gov/lc/socal/envdocs.html.

No known Indian trust assets or environmental justice issues are associated with the proposed action, although the pipeline alignments may include areas of low income and minority populations.

Written comments are requested to help identify alternatives and issues that should be analyzed in the EIS/EIR. Federal, State and local agencies, tribes, and the general public are invited to participate in the environmental review process.

Public Disclosure

Before including your address, phone number, email address, or other personal identifying information in your comment, you should be aware that your entire comment—including your personal identifying information—may be made publicly available at any time. While you can ask us in your comment to withhold your personal identifying information from public review, we cannot guarantee that we will be able to do so.

Dated: January 27, 2015.
Terrance J. Fulp,
Regional Director, Lower Colorado Region.

[FR Doc. 2015-01942 Filed 2-5-15; 8:45 am]

BILLING CODE 4332-90-P